DEPARTMENT OF LABOR

Employment Standards Administration; Wage and Hour Division

29 CFR Part 552

RIN 1215-AA82

Application of the Fair Labor Standards Act to Domestic Service

AGENCY: Wage and Hour Division, Employment Standards Administration, Labor.

ACTION: Proposed rule; withdrawal.

SUMMARY: The Department of Labor is withdrawing an earlier proposed rule, published in the Federal Register on January 19, 2001 (66 FR 5481), pertaining to the Fair Labor Standards Act (FLSA) exemption for individuals who provide companionship services. For the reasons discussed below, the Department has decided to terminate this rulemaking proceeding.

DATES: This withdrawal is made on April 18, 2002.

FOR FURTHER INFORMATION CONTACT: Richard M. Brennan, Deputy Director, Office of Enforcement Policy, Wage and Hour Division, Employment Standards Administration, U.S. Department of Labor, Room S-3510, 200 Constitution Avenue, NW., Washington, D.C. 20210; telephone (202) 693-0745. This is not a toll free number.

SUPPLEMENTARY INFORMATION: The Department is withdrawing the proposed rule pertaining to the FLSA exemption for individuals who provide companionship services, and terminating the rulemaking proceeding. The proposed rule, published on January 19, 2001 (66 FR 5481), proposed revisions to the regulations defining and interpreting the minimum wage and overtime exemption under section 13(a)(15) of the FLSA for employees in domestic service employment who provide “companionship services” to individuals unable to care for themselves because of age or infirmity. The Department proposed to amend the regulations to make the companionship exemption inapplicable if the worker was employed by someone other than a member of the family in whose home he or she worked. The Department also proposed to modify the scope of the permissible duties of a companion. In the proposed rule, the Department had concluded that there would be little economic impact on affected entities if such workers were not exempt from the FLSA's minimum wage and overtime pay requirements. However, numerous commenters on the proposed rule, including multiple government agencies such as the Small Business Administration and the Department of Health and Human Services, seriously called into question the Department's conclusion that there would be little economic impact. Based on its review of the rulemaking record as a whole, the Department has decided to withdraw the proposed rule and terminate the rulemaking action.

Document Preparation

This document was prepared under the direction and control of Tammy D. McCutchen, Administrator, Wage and Hour Division, Employment Standards Administration, U.S. Department of Labor.

Signed at Washington, DC, on this 29th day of March, 2002.
Tammy D. McCutchen,
Administrator, Wage and Hour Division.

[FR Doc. 02-8382 Filed 4-5-02; 8:45 am]

BILLING CODE 4510-27-M